DEPARTMENT OF COMMERCE

National Oceanic and Atmospheric Administration

50 CFR Part 660

[Docket No. 180625576-8999-02]

RIN 0648-BJ11

Magnuson-Stevens Act Provisions; Fisheries Off West Coast States; Pacific Coast Groundfish Fishery; 2019-2020 Biennial Specifications and Management Measures; Inseason Adjustments

AGENCY: National Marine Fisheries Service (NMFS), National Oceanic and Atmospheric Administration (NOAA), Commerce.

ACTION: Final rule; inseason adjustments to biennial groundfish management measures.

SUMMARY: This final rule announces routine inseason adjustments to management measures in commercial groundfish fisheries. This action is intended to allow commercial fishing vessels to access more abundant groundfish stocks while protecting overfished and depleted stocks.

DATES: This final rule is effective August 2, 2019.

FOR FURTHER INFORMATION CONTACT: Karen Palmigiano, phone: 206-526-4491 or email: karen.palmigiano@noaa.gov.

Electronic Access

This rule is accessible via the internet at the Office of the Federal Register website at https://www.federalregister.gov. Background information and documents are available at the Pacific Fishery Management Council's website at http://www.pcouncil.org/.

SUPPLEMENTARY INFORMATION:

Background

The Pacific Coast Groundfish Fishery Management Plan (PCGFMP) and its implementing regulations at title 50 in the Code of Federal Regulations (CFR), part 660, subparts C through G, regulate fishing for over 90 species of groundfish off the coasts of Washington, Oregon, and California. The Pacific Fishery Management Council (Council) develops groundfish harvest specifications and management measures for two-year periods (i.e., a biennium). NMFS published the final rule to implement harvest specifications and management measures for the 2019-2020 biennium for most species managed under the PCGFMP on December 12, 2018 (83 FR 63970). In general, the management measures set at the start of the biennial harvest specifications cycle help the various sectors of the fishery attain, but not exceed, the catch limits for each stock. The Council, in coordination with Pacific Coast Treaty Indian Tribes and the States of Washington, Oregon, and California, recommends adjustments to the management measures during the fishing year to achieve this goal.

At its June 19-25, 2019 meeting, the Council recommended four adjustments to the 2019 commercial groundfish fishery management measures, including: (1) Increasing the limited entry fixed gear (LEFG) trip limits for bocaccio between 40°10′ North latitude (N lat.) and 34°27′ N lat.; (2) increasing the shorebased individual fishing quota (IFQ) fishery trip limits for big skate; (3) increasing the open access (OA) trip limits for sablefish both north and south of 36° N lat., and (4) increasing the amount of Pacific halibut that vessels in the sablefish primary fishery north of Point Chehalis may take incidentally.

Pacific Coast groundfish fisheries are managed using harvest specifications or limits (e.g., overfishing limits [OFL], acceptable biological catch [ABC], annual catch limits [ACL] and harvest guidelines [HG]) recommended biennially by the Council and based on the best scientific information available at that time (50 CFR 660.60(b)). During development of the harvest specifications, the Council also recommends mitigation measures (e.g., trip limits, area closures, and bag limits) that are meant to mitigate catch so as not to exceed the harvest specifications. The harvest specifications and mitigation measures developed for the 2019-2020 biennium used data through the 2017 fishing year. Each of the adjustments to mitigation measures discussed below are based on updated fisheries information that was unavailable when the analysis for the current harvest specifications was completed. As new fisheries data becomes available, adjustments to mitigation measures are projected so as to help harvesters achieve but not exceed the harvest limits.

LEFG Trip Limits for Bocaccio Between 40°10′ N Lat. and 34°27′ N Lat.

Bocaccio is managed with stock-specific harvest specifications south of 40°10′ N lat. and within the Minor Shelf Rockfish complex north of 40°10′ N lat. NMFS declared bocaccio overfished in 1999, and implemented a rebuilding plan for the stock in 2000. NMFS declared bocaccio officially rebuilt in 2017. New, higher catch limits resulting from their rebuilt status were implemented for bocaccio for the first time in 2019. For example, the non-trawl allocation of bocaccio increased from 442.3 mt in 2018 to 1,250 mt in 2019.

For 2019, the bocaccio ACL south of 40°10′ N lat. is 2,097 mt with a fishery HG of 2,051 mt. The non-trawl allocation is 1,250 mt. The supporting analysis for the 2019-2020 harvest specifications used landings data through the 2017 fishing year to determine appropriate mitigation measures (e.g., commercial trip limits and recreational bag limits) to ensure catch reaches but does not exceed the bocaccio ACL for south of 40°10′ N lat. At the June 2019 Council meeting, members of the Groundfish Advisory SubPanel (GAP) notified the Council and the Groundfish Management Team (GMT) of increased interactions with bocaccio for vessels targeting chilipepper rockfish. The current trip limits for bocaccio between 40°10′ N lat. and 34°27′ N lat., coupled with these increased interactions, can result in higher bocaccio discard rates in the LEFG fishery. Because the most recent bocaccio attainment estimates for 2019 suggest that around 11 percent or 134.6 mt of bocaccio will be attained out of the 1,250 mt non-trawl allocation for south of 40°10′ N lat., the GAP requested the GMT examine potential increases to the bocaccio trip limits for the LEFG fishery only between 40°10′ N lat. and 34°27′ N lat. The GMT did not receive a request to examine trip limit increases for bocaccio south of 34°27′ N lat.

To assist the Council in evaluating potential trip limit increases for bocaccio between 40°10′ N lat. and 34°27′ N lat., the GMT analyzed projected attainment under the current status quo trip limit of 1,000 pounds (lb) (454 kilograms [kg]) per two months and under the proposed trip limit increase, 1,500 lb (680 kg) per two months, and compared it to the projected catch in the analysis for the 2019-20 harvest specifications. In 2018, when the bocaccio trip limits were established for the 2019-20 harvest specifications, bocaccio had only just been rebuilt and few data points existed to provide projected annual catch data under the current trip limits. Based on that limited data, at the time, boccacio catch in the non-trawl commercial fishery between 40°10′ N lat. and 34°27′ N lat. was projected to be around 4.5 mt of the 1,250-mt non-trawl allocation.

The GMT updated the projected attainments under the current status quo trip limits and examined potential impacts under alternative trip limits with additional catch data from the 2017 and 2018 fishing years. Based on updated model projections under the current status quo trip limit of 1,000 lb (454 kg) per two months, total coastwide bocaccio catch in the LEFG and OA fisheries is projected to be 134.6 mt, or 11 percent of the non-trawl HG and six percent of the bocaccio ACL for south of 40°10′ N lat. Increasing the trip limits to 1,500 lb (680 kg) per two months for the remainder of the fishing year for vessels fishing in the LEFG fishery in the area between 40°10′ N lat. and 34°27′ N lat., which would align them with the trip limits already in place south of 34°27′ N lat., is projected to increase total mortality by less than 0.1 mt, and the overall total mortality of bocaccio is projected to remain at around 11 percent of the non-trawl HG and four percent of the ACL south of 40°10′ N lat.

Trip limit increases for bocaccio are intended to allow for increased attainment of the non-trawl allocation (1,250 mt), while also providing the incentive for vessels targeting co-occurring species, such as chilipepper rockfish, to land their bocaccio catch instead of discarding. Therefore, the Council recommended and NMFS is implementing, by modifying Table 2 (South) to part 660, Subpart E, an increase to the bocaccio trip limits for the LEFG fishery between 40°10′ N lat. and 34°27′ N lat. The trip limits for bocaccio in this area will increase from “1,000 lb (454 kg) per per two months” to “1,500 lb (680 kg) per two months” beginning in period 4 (July-August) through the end of the year.

Shorebased IFQ Fishery Trip Limits for Big Skate

Previously managed as an ecosystem component species, big skate was moved “into the fishery” through the 2017-18 harvest specifications because large landings off Oregon suggested vessels in the Pacific Coast groundfish fishery are targeting big skate. Big skate is the only non-IFQ species managed coast-wide with bimonthly trip limits in the IFQ fishery. For 2019, the ACL for big skate is 494 mt with a fishery harvest guideline of 452 mt. The trawl allocation is 95 percent or 429.5 mt. An additional 41 mt was deducted from the trawl allocation to account for bycatch in the at-sea sector and shorebased IFQ discard mortality resulting in a landing target of 388.5 mt for the trawl sector. Current trip limits for big skate for vessels in the IFQ fishery can be found in Table 1.

Table 1—Big Skate Trip Limits for the 2019 Fishing Year
Jan-Feb | Mar-Apr | May-Jun | Jul-Aug | Sep-Oct | Nov-Dec
5,000 lb (2,258 kg)/2 months | 25,000 lb (11,340 kg))/2 months | 30,000 lb (13,608 kg)/2 months | 35,000 lb (15,876 kg)/2 months | 10,000 lb (4,536 kg)/2 months | 5,000 lb (2,258 kg)/2 months.

At the June 2019 Council meeting, the GAP requested the Council consider increasing the big skate trip limits due to lower than projected catch in 2019, which industry suggested is likely due to several fishermen who targeted big skate retiring in recent years. During development of the 2019-20 harvest specifications, the GMT analysis used relatively high 2016-2017 landings and projected attainment would be around 98 percent of the landings targets in 2019. However, landings decreased dramatically in 2018 (218 mt out of 494 mt ACL with the shorebased IFQ sector harvesting 128 mt) and the same trend has continued into 2019. Under the current trip limits (Table 1), landings as of late June 2019 were at 73.3 mt or 20 percent of the landing target (388.5 mt). If the current trend continues, landings are projected to be 160.4 mt of the 388.5 mt landing target by the end of the year due to continued low landings in the shorebased IFQ sector.

Therefore, the GMT analyzed two alternatives that would allow the Council to increase trip limits for vessels targeting big skate in the IFQ fishery. Under Alternative 1, the trip limits for periods 4 (July and August), 5 (September and October), and 6 (November and December) would each increase by 10,000 lb (4,565 kg) which is projected to increase landings of big skate by 21.3 mt from 160.4 mt under the current limits to 181.7 mt. Under Alternative 2, big skate trip limits in periods 4 and 5 would increase by 100 percent of the current limit for each period and would increase by 300 percent for period 6 resulting in a projected total attainment of 55 percent or 215.1 mt of the 388.5 mt target amount.

Therefore, in order to maximize opportunities for vessels targeting big skate in the shorebased IFQ fishery, the Council recommended, and NMFS is implementing, by modifying Tables 1 (North and South) to part 660, subpart D, the following trip limits for big skate in the IFQ program, for period 4: 70,000 lb (31,751 kg) per two months, period 5: 20,000 lb (9,072 kg) per two months, and period 6: 20,000 lb (9,072 kg) per two months.

OA Trip Limits for Sablefish North and South of 36° N Lat.

Sablefish is an important commercial species on the west coast with vessels targeting sablefish with both trawl and fixed gear (longlines and pots/traps). Sablefish is managed with a coast-wide ACL that is apportioned north and south of 36° N lat. with 73.8 percent going to the north and 26.2 percent going to the south. In 2019, the portion of the ACL for sablefish north of 36° N lat. is 5,606 mt with a fishery HG of 5,007 mt. The fishery HG north of 40°10′ N lat. is further divided between the limited entry and OA sectors with 90.6 percent, or 4,537 mt, going to the limited entry sector and 9.4 percent, or 471 mt, going to the OA sector. The 2019 portion of ACL for sablefish south of 36° N lat. is 1,990 mt with a fishery HG of 1,986 mt. South of 36° N lat., the fishery HG is further divided between the trawl (limited entry) and non-trawl (LEFG and OA) sectors with 42 percent or 834 mt going to the trawl sector, and the remaining 58 percent or 1,152 mt going to the fixed gear sector.

At the June 2019 Council meeting, the GMT received requests from industry members and members of the GAP to examine the potential to increase sablefish trips limits for the OA fisheries north and south of 36° N lat. The intent of increasing trip limits is to increase harvest opportunities for vessels targeting sablefish in the OA fishery which have been trending low in recent years, particularly for OA south of 36° N lat. To evaluate potential increases to sablefish trip limits, the GMT made model-based landings projections under current regulations and alternative sablefish trip limits, including the limits ultimately recommended by the Council, for the OA fisheries through the remainder of the year. Table 2 shows the projected sablefish landings, the sablefish allocations, and the projected attainment percentage by fishery under both the current trip limits and the Council's recommended adjusted trip limits. These projections were based on the most recent catch information available through late June 2019. Industry did not request changes to sablefish trip limits for the LEFG fishery south of 36° N lat. Therefore, NMFS and the Council did not consider trip limit changes for this fishery at this time.

Table 2—Projected Landings of Sablefish, Sablefish Allocation, and Projected Percentage of Sablefish Attained Through the End of the Year by Trip Limit and Fishery
Fishery | Trip limits | Projected landings (round weight) (mt) | Allocation (mt) | Projected percentage attained
OA North of 36° N lat | Current: 300 lb (136 kg)/day, or 1 landing per week of up to 1,200 lb (544 kg), not to exceed 2,400 lb (1,089 kg)/2 months | 303.9-418.4 | 449 | 67.7-93.1
| Recommended: 300 lb (136 kg)/day, or 1 landing per week of up to 1,400 lb (635 kg), not to exceed 2,800 lb (1,179 kg)/2 months | 352.8-497.3 |  | 78.6-110.7
OA South of 36° N lat | Current: 300 lb (136 kg)/day, or 1 landing per week of up to 1,600 lb (726 kg), not to exceed 3,200 lb (1,451 kg)/2 months | 23.7 | 338 | 7.0
| Recommended: 300 lb (136 kg)/day, or 1 landing per week of up to 1,600 lb (726 kg), not to exceed 4,800 lb (2,177 kg)/2 months | 23.7 |  | 7.0

As shown in Table 2, under the current trip limits, the model predicts catches of sablefish will be at or below 94 percent for OA fishery north of 36° N lat. and around seven percent for OA south of 36° N lat. Under the Council's recommended trip limits, sablefish attainment is projected to increase in the OA fisheries north of 36° N lat. up to 110.7 percent. However, to date in 2019, the model has overestimated landings by an average of 38 percent. Assuming this trend continues for 2019, the percentage attainment would likely be closer to the lower bound (78.6 percent or 352.8 mt) for OA north of 36° N lat. Due to a lack of participation and variance in trip limits in the OA fishery south of 36° N lat., the model was unable to detect any estimated change in attainment for this fishery even with the proposed increase in trip limits.

Trip limit increases for sablefish are intended to increase attainment of the non-trawl HG. The proposed trip limit increases do not change projected impacts to co-occurring overfished species compared to the impacts anticipated in the 2019-20 harvest specifications because the projected impacts to those species assume that the entire sablefish ACL is harvested. Therefore, the Council recommended and NMFS is implementing, by modifying Table 3 (North) to part 660, subpart E, trip limit changes for the OA sablefish fishery north of 36° N lat. to increase the limits from “300 lb (136 kg) per day, or one landing per week up to 1,200 lb (544 kg), not to exceed 2,400 lb (1,089 kg) per two months” to “300 lb (136 kg) per day, or one landing per week of up to 1,400 lb (590 kg), not to exceed 2,800 lb (1,179 kg) per two months” starting with period 4 (July through August) through the end of the year. The trip limits for sablefish in the OA sablefish fishery south of 36° N lat. will increase from “300 lb (136 kg) per day, or one landing per week of up to 1,600 lb (726 kg), not to exceed 3,200 lb (907 kg) per two months” to “300 lb (136 kg) per day, or one landing per week of up to 1,600 lb (726 kg), not to exceed 4,800 lb (1,179 kg) per two months” beginning in period 4 (July through August) through the end of the year.

Increase Incidental Halibut Retention in the Limited Entry Fixed Gear Sablefish Primary Fishery

The Council developed a Catch Sharing Plan for the International Pacific Halibut Commission Regulatory Area 2A, as provided for in the Northern Pacific Halibut Act of 1982. The Catch Sharing Plan allocates the Area 2A annual total allowable catch (TAC) among fisheries off Washington, Oregon, and California. Pacific halibut is generally a prohibited species for vessels fishing in Pacific coast groundfish fisheries, unless explicitly allowed in groundfish regulations. In years where the Pacific halibut TAC is above 900,000 lb (408 mt), the Catch Sharing Plan recommends the sablefish primary fishery an incidental retention limit for Pacific halibut north of Point Chehalis, WA (46°53.30′ N lat.). On April 29, 2019, NMFS implemented a 2019 Area 2A TAC of 1,500,000 lb (680.4 mt) the and a 2019 incidental catch limit of 70,000 lb (31.8 mt) for the limited entry fixed gear sablefish primary fishery north of Pt. Chehalis, WA (84 FR 17960; April 29, 2019).

Current regulations at § 660.231(b)(3)(iv) provide for halibut retention by vessels fishing in the sablefish primary fishery from April 1 through October 31 with a landing ratio of 200 lb (91 kg) dressed weight of halibut, for every 1,000 lb (454 kg) dressed weight of sablefish landed, and up to an additional two halibut in excess of this ratio. These limits, recommended by the Council at its September 2018 meeting, and subsequently implemented by NMFS on October 9, 2018 (83 FR 50510), were intended to allow the total catch of Pacific halibut to approach, but not exceed, the 2018 allocation for the sablefish primary fishery north of Pt. Chehalis, Washington (WA) and provide greater opportunity for industry to attain a higher percentage of the sablefish primary fishery allocation. Even after NMFS increased the halibut to sablefish ratio, the sablefish primary fishery only took 43,716 net weight (nt. wt.) lb (19,829 kg), or 87 percent of their Pacific halibut incidental catch limit in 2018.

As of the June 2019 Council meeting, the GMT was informed that the sablefish primary fishery north of Pt. Chehalis, WA had taken 5,881 nt. wt. lb of the 70,000 lb (31,751 kg) allowance for Pacific halibut. Under the current ratio, projected halibut landings in the sablefish primary fishery for 2019 are 47,878 nt. wt. lb, or 68.4 percent of the 70,000 lb (31,751 kg) allowance. Therefore, industry requested the GMT analyze the potential to increase the landing ratio for Pacific halibut in the sablefish primary fishery. The GMT analyzed two alternatives for the Council to consider. Alternative 1 would increase the ratio from 200 lb (91 kg) dressed weight of halibut, for every 1,000 lb (454 kg) dressed weight of sablefish landed to 220 lb (100 kg) dressed weight of halibut for every 1,000 lb (454 kg) dressed weight of sablefish landed and would maintain the same two halibut allowance beyond the ratio. Under alternative 1, projected attainment of Pacific halibut in the sablefish primary fishery would be 72.4 percent or 50,694 lb (22,994 kg); an increase of 4 percent or 2,816 lb (1,277 kg) of Pacific halibut. Under Alternative 2, the ratio would increase further to 250 lb (113 kg) dressed weight of halibut, for every 1,000 lb (454 kg) dressed weight of sablefish landed and would maintain the same two halibut allowance beyond the ratio, resulting in projected attainment of 54,214 lb (24,591 kg) or 77.4 percent of the 70,000 lb (31,751 kg) allocation.

Therefore, in order to allow increased incidental halibut catch in the sablefish primary fishery, the Council recommended and NMFS is revising incidental halibut retention regulations at § 660.231(b)(3)(iv) to increase the catch ratio to “250 lb (113 kg) dressed weight of halibut for every 1,000 lb (454 kg) dressed weight of sablefish landed and up to two additional halibut in excess of the 250 lb (113 kg) per 1,000 lb (454 kg) ratio per landing.” This increase would allow total catch of Pacific halibut to approach, but not exceed, the 2019 allocation for the sablefish primary fishery north of Pt. Chelais, WA (70,000 lb [31,751 kg] or 68.4 mt) and provide greater opportunity for industry to attain a higher percentage of the sablefish primary fishery allocation.

Classification

This final rule makes routine inseason adjustments to groundfish fishery management measures, based on the best scientific information available, consistent with the PCGFMP and its implementing regulations.

This action is taken under the authority of 50 CFR 660.60(c) and the Northern Pacific Halibut Act of 1982 and is exempt from review under Executive Order 12866.

The aggregate data upon which these actions are based are available for public inspection by contacting Karen Palmigiano in NMFS West Coast Region (see FOR FURTHER INFORMATION CONTACT, above), or view at the NMFS West Coast Groundfish website: http://www.westcoast.fisheries.noaa.gov/fisheries/groundfish/index.html.

Pursuant to 5 U.S.C. 553(b), NMFS finds good cause to waive prior public notice and an opportunity for public comment on this action, as notice and comment would be impracticable and contrary to the public interest. The adjustments to management measures in this document ease restrictive trip limits and retention limits on commercial fisheries in Washington, Oregon, and California. No aspect of this action is controversial, and changes of this nature were anticipated in the final rule for the 2019-2020 harvest specifications and management measures which published on December 12, 2018 (83 FR 63970).

At its June 2019 meetings, the Council recommended increases to the commercial trip limits be implemented as soon as possible so that harvesters may be able to take advantage of these higher limits before the end of their fishing year, which for vessels in the primary sablefish fishery is October 31 and for other fisheries is the end of the calendar year. Each of the adjustments to commercial management measures in this rule will create more harvest opportunity and allow fishermen to better attain species that are currently under attained without causing any additional impacts to the fishery. Each of these recommended adjustments also rely on new catch data that were not available and thus not considered during the 2019-2020 biennial harvest specifications process. New catch information through the end of the 2018 fishing year shows that attainment of these target species (sablefish, Pacific halibut, bocaccio, and big skate) has been below their respective management points (i.e., HG, ACL, and non-trawl allocation) in 2018 and would likely remain below their state catch targets under status quo limits in 2019 and 2020.

These adjustments to management measures could provide up to an additional $1 million in ex-vessel revenue to harvesters; the majority of which would come from increasing trip limits in the sablefish primary fishery (about $800,000). Increasing the big skate trip limits could provide an additional $48,000 in revenue to harvesters. Increasing Pacific halibut retention in the primary sablefish fishery is likely to provide an additional $34,000 in ex-vessel revenue, while an additional up to $11,000 in revenue is expected, dependent upon the price, for the increase in bocaccio trip limits. Additional economic benefits would also be seen for processors and the fishing support businesses; however, these are more difficult to quantify. Delaying implementation to allow for public comment would likely reduce the economic benefits to the commercial fishing industry and the businesses that rely on that industry because much of the fishing season would be over before the new regulations could be implemented. For example, the primary sablefish fishery takes place from April 15 to October 31. If the notice and comment rulemaking process took 90 days to complete, the increase in the Pacific halibut ratio would only be in place for 1-2 months not allowing for the full economic benefit of the proposed action. Therefore, providing a comment period for this action could significantly limit the economic benefits to the fishery, and would hamper the achievement of optimum yield from the affected fisheries.

Therefore, the NMFS finds reason to waive the 30-day delay in effectiveness pursuant to 5 U.S.C. 553(d)(1) so that this final rule may become effective upon publication in the Federal Register. The adjustments to management measures in this document affect commercial fisheries by increasing opportunity and relieving participants of the more restrictive trip limits. These adjustments were requested by the Council's advisory bodies, as well as members of industry during the Council's June 2019 meetings, and recommended unanimously by the Council. No aspect of this action is controversial, and changes of this nature were anticipated in the biennial harvest specifications and management measures established through a notice and comment rulemaking for 2019-2020 (82 FR 63970).

List of Subjects in 50 CFR Part 660

Fisheries, Fishing, and Indian Fisheries.

Dated: July 30, 2019.
Alan D. Risenhoover,
Director, Office of Sustainable Fisheries, National Marine Fisheries Service.

For the reasons set out in the preamble, 50 CFR part 660 is amended as follows:

PART 660—FISHERIES OFF WEST COAST STATES

1. The authority citation for part 660 continues to read as follows:

Authority: 16 U.S.C. 1801 et seq., 16 U.S.C. 773 et seq., and 16 U.S.C. 7001 et seq.

2. Revise Tables 1 (North) and 1 (South) to part 660, subpart D to read as follows:

BILLING CODE 3510-22-P

BILLING CODE 3510-22-C

* * * * *

3. In § 660.231, revise paragraph (b)(3)(iv) to read as follows:

§ 660.231 Limited entry fixed gear sablefish primary fishery.

* * * * *

(b) * * *

(3) * * *

(iv) Incidental Pacific halibut retention north of Pt. Chehalis, WA (46°53.30′ N lat.). From April 1 through October 31, vessels authorized to participate in the sablefish primary fishery, licensed by the International Pacific Halibut Commission for commercial fishing in Area 2A (waters off Washington, Oregon, California), and fishing with longline gear north of Pt. Chehalis, WA (46°53.30′ N lat.) may possess and land up to the following cumulative limits: 250 pounds (113 kg) dressed weight of Pacific halibut for every 1,000 pounds (454 kg) dressed weight of sablefish landed and up to 2 additional Pacific halibut in excess of the 250-pounds-per-1,000-pound ratio per landing. “Dressed” Pacific halibut in this area means halibut landed eviscerated with their heads on. Pacific halibut taken and retained in the sablefish primary fishery north of Pt. Chehalis may only be landed north of Pt. Chehalis and may not be possessed or landed south of Pt. Chehalis.

* * * * *

4. Revise Tables 2 (North) and 2 (South) to part 660, subpart E to read as follows:

BILLING CODE 3510-22-P

5. Revise Tables 3 (North) and 3 (South) to part 660, subpart F to read as follows:

[FR Doc. 2019-16554 Filed 7-30-19; 4:15 pm]

BILLING CODE 3510-22-C